DEPARTMENT OF EDUCATION

National Institute on Disability and Rehabilitation Research

AGENCY: Office of Special Education and Rehabilitative Services, Department of Education.

ACTION: Notice of Final Competitive Preference Points for Fiscal Year 2001 for the Field Initiated competition.

SUMMARY: This notice announces the addition of a competitive preference points for the Field Initiated competition under the National Institute on Disability and Rehabilitation Research (NIDRR) for fiscal year 2001. We take this action to focus research attention on an area of national need. The additional points are intended to improve rehabilitation services and outcomes for individuals with disabilities.

DATES: This notice take effect on September 29, 2000.

FOR FURTHER INFORMATION CONTACT: Donna Nangle. Telephone: (202) 205-5880. If you use a telecommunications device for the deaf (TDD) you may call the TDD number at (202) 205-4475. Internet: donna_nangle@ed.gov

Individuals with disabilities may obtain this document in an alternate format (e.g., Braille, large print, audio tape, or computer diskette) on request to the contact person listed in the preceding paragraph.

Note: This notice of final competitive preference points does not solicit applications. A notice inviting applications is published in this issue of the Federal Register.

Analysis of Comments and Changes

On June 26, 2000 we published a notice of a proposed competitive preference points in the Federal Register (65 FR 39500). We received one letter commenting on the proposed additional competitive preference points by the deadline date. Except for minor editorial and technical revisions, there are no differences between the notice of proposed and these final competitive preference points.

Comment: One commenter said that there is a need to consider the professional qualifications of all proposed project research personnel in the application, including those with disabilities.

Discussion: In the notice inviting applications for the Field Initiated competition, NIDRR already includes in the project staff section of the selection criteria information for the peer reviewers to address the extent to which key personnel and other key staff have appropriate training and experience in the disciplines required to conduct all proposed activities.

Changes: None.

Additional Selection Criterion: We will use the selection criteria in 34 CFR 350.54 to evaluate applications under this program. The maximum score for all the criteria is 100 points; however, we will use the following criterion so that up to an additional ten points may be earned by an applicant for a total possible score of 110 points:

Within this absolute priority, we will give the following competitive preference to applications that are otherwise eligible for funding under this priority:

Up to ten (10) points based on the extent to which an application includes effective strategies for employing and advancing in employment qualified individuals with disabilities in projects awarded under this absolute priority. In determining the effectiveness of those strategies, we may consider the applicant's success, as described in the application, in employing and advancing in employment qualified individuals with disabilities in the project.

For purposes of this competitive preference, applicants can be awarded up to a total of 10 points in addition to those awarded under the published selection criteria for this priority. That is, an applicant meeting this competitive preference could earn a maximum total of 110 points.

Applicable Program Regulations: 34 CFR Part 350.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the preceding sites. If you have questions about using PDF, call the U.S. Government Printing Office (GPO), toll free, at 1-888-293-6498; or in the Washington, DC., area at (202) 512-1530.

Note: The official version of document is the document published in the Federal Register. Free Internet access to the official edition of the Federal Register and the Code of Federal Regulations is available on GPO Access at:

http://www.access.gpo.gov/nara/index.html

(Catalog of Federal Domestic Assistance Number 84.133G, Field Initiated Research)

Program Authority: 29 U.S.C. 764.

Dated: August 23, 2000.
Judith E. Heumann,
Assistant Secretary for Special Education and Rehabilitative Services.

[FR Doc. 00-21944 Filed 8-29-00; 8:45 am]

BILLING CODE 4000-01-P